DEPARTMENT OF DEFENSE

Office of the Secretary

[Transmittal No. 21-33]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-33 with attached Policy Justification and Sensitivity of Technology.

Dated: May 15, 2024.
Aaron T. Siegel,
Alternate OSD Federal Register Liaison Officer, Department of Defense.

BILLING CODE 6001-FR-P

BILLING CODE 6001-FR-C

Transmittal No. 21-33

Notice of Proposed Issuance of Letter of Offer Pursuant to Section 36(b)(1) of the Arms Export Control Act, as Amended

(i) Prospective Purchaser: Government of Egypt

(ii) Total Estimated Value:

Major Defense Equipment * | $662 million.
Other | $ 29 million.
TOTAL | $691 million.

Funding Source: Foreign Military Financing (FMF)

(iii) Description and Quantity or Quantities of Articles or Services under Consideration for Purchase:

Major Defense Equipment (MDE):

Five thousand (5,000) TOW 2A, Radio Frequency (RF) Missiles, BGM-71E-4B-RF

Seventy (70) TOW 2A, Radio Frequency (RF) Missiles, BGM-71E-4B-RF (Fly-to-Buy Lot Acceptance Missiles)

Non-MDE:

Also included is missile support equipment; technical manuals/publications; spare parts; tool and test equipment; training; U.S. Government technical and logistical support, contractor technical support, and other associated equipment and services; and other related elements of logistical and program support.

(iv) Military Department: Army (EG-B-VJO)

(v) Prior Related Cases, if any: EG-B-VCO

(vi) Sales Commission, Fee, etc., Paid, Offered, or Agreed to be Paid: None

(vii) Sensitivity of Technology Contained in the Defense Article or Defense Services Proposed to be Sold: See Attached Annex

(viii) Date Report Delivered to Congress: May 19, 2022

* As defined in Section 47(6) of the Arms Export Control Act.

POLICY JUSTIFICATION

Egypt—TOW 2A Radio Frequency (RF) Missiles and Support

The Government of Egypt has requested to buy five thousand (5,000) TOW 2A, Radio Frequency (RF) missiles, BGM-71E-4B-RF; and seventy (70) TOW 2A, Radio Frequency (RF) missiles, BGM-71E-4B-RF (Fly-to-Buy Lot Acceptance missiles). Also included is missile support equipment; technical manuals/publications; spare parts; tool and test equipment; training; U.S. Government technical and logistical support, contractor technical support, and other associated equipment and services; and other related elements of logistical and program support. The estimated total cost is $691 million.

This proposed sale will support the foreign policy and national security of the United States by helping to improve the security of a Major Non-North Atlantic Treaty Organization Ally that continues to be an important strategic partner in the Middle East.

The proposed sale will enhance Egypt's capability to strengthen its homeland defense by replenishing its stocks. The missiles will be used for counter-terrorism and border security against armored threats and fortified positions. Egypt will have no difficulty absorbing these additional missiles into its armed forces.

The proposed sale of this equipment and support will not alter the basic military balance in the region.

The principal contractor will be Raytheon Missiles & Defense, Tucson, AZ. There are no known offset agreements proposed in connection with this potential sale.

Implementation of this proposed sale will not require the assignment of any additional U.S. Government or contractor representatives to Egypt.

There will be no adverse impact on U.S. defense readiness as a result of this proposed sale.

Transmittal No. 21-33

Notice of Proposed Issuance of Letter of Offer Pursuant to Section 36(b)(1) of the Arms Export Control Act

Annex

Item No. vii

(vii) Sensitivity of Technology:

1. The Radio Frequency TOW 2A (RF) Missile (BGM-71-4B-RF) is a direct attack missile designed to defeat armored vehicles, reinforced urban structures, field fortification and other such targets. TOW Missiles are fired from a variety of TOW Launchers in the U.S. Army, USMC, and FMS partner forces. The TOW 2A RF missile can be launched from the same launcher platforms as the existing wire-guided TOW 2A missile without modification to the launcher. The TOW 2A missile (both wire and RF) contains two tracker beacons (Xenon and thermal) for the launcher to track and guide the missile in flight. Guidance commands from the launcher are provided to the missile by the RF link contained within the missile case.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2024-11033 Filed 5-17-24; 8:45 am]

BILLING CODE 6001-FR-P